DEPARTMENT OF COMMERCE

National Oceanic and Atmospheric Administration

15 CFR Part 922

Initiation of Review of Management Plan for the Florida Keys National Marine Sanctuary; Notice of Scoping Meetings

AGENCY: Marine Sanctuaries Division (MSD), National Ocean Service (NOS), National Oceanic and Atmospheric Administration, Department of Commerce (DOC).

ACTION: Initiation of review of management plan; Notice of scoping meetings.

SUMMARY: In accordance with section 304(e) of the National Marine Sanctuaries Act, as amended, (NMSA) (16 U.S.C. 1431 et seq.), the Marine Sanctuaries Division of the National Oceanic and Atmospheric Administration (NOAA) is initiating a review of the Florida Keys National Marine Sanctuary (FKNMS or Sanctuary) Management Plan, to evaluate substantive progress toward implementing the goals for the Sanctuary, and to make revisions to the plan and regulations as necessary to fulfill the purposes and policies of the NMSA.

NOAA will conduct public scoping meetings to gather information and comments from individuals, organizations, and government agencies on the scope, types and significance of issues related to the Sanctuary's management plan and regulations.

DATES: Written comments should be received by July 20, 2001.

The scoping meeting dates are:

1. Thursday, June 21, 2001, 7:00 p.m. in Marathon.

2. Friday, June 22, 2001, 7:00 p.m. in Key Largo.

3. Tuesday, June 26, 2001, 7:00 p.m. in Key West.

ADDRESSES: Mail written comments to the Florida Keys National Marine Sanctuary (Management Plan Review), Post Office Box 500368, Marathon, FL 33050. Comments will be available for public review at the same address.

The scoping meeting locations are:

1. Marathon—Marathon Garden Club, 5270 Overseas Highway, Marathon, FL.

2. Key Largo—Key Largo Library, Tradewinds Shopping Center, 101485 Overseas Highway, Key Largo, FL.

3. Key West—Holiday Inn Beachside, 3841 N. Roosevelt Blvd., Key West, FL.

FOR FURTHER INFORMATION CONTACT: Billy D. Causey, Sanctuary Superintendent, (305) 743-2437×26.

SUPPLEMENTARY INFORMATION: The Florida Keys National Marine Sanctuary was designated by the Florida Keys National Marine Sanctuary and Protection Act (FKNMSPA) P.L. 101-605. The Sanctuary includes 2900 square nautical miles of coastal and ocean waters, and the submerged lands thereunder, surrounding the Florida Keys. The 2.5 million-acre Sanctuary contains one of North America's most diverse assemblages of terrestrial, estuarine, and marine fauna and flora, including, in addition to the Florida reef tract, thousands of patch reefs, one of the largest sea grass communities covering 1.4 million acres, mangrove fringed shorelines, mangrove islands, and various hardbottom habitats. These diverse habitats provide shelter and food for thousands of species of marine plants and animals, including more than 50 species of animals identified under federal or state law, as endangered or threatened. The present Management Plan for the Sanctuary was completed in 1996.

The proposed revised Management Plan will likely involve changes to existing management policies of the Sanctuary, to address current issues and challenges, and to better protect and manage the Sanctuary's resources and qualities. NOAA anticipates completion of the revised Management Plan by June 30, 2002, and concomitant documents, including any revised regulations, will require approximately six to twelve additional months.

This timeline will allow NOAA to prepare a revised plan to be submitted to the Governor of the State of Florida for review and approval in July 2002. The State of Florida is a co-trustee in the management of the Sanctuary and NOAA has determined that at the conclusion of the five-year review of the Sanctuary, it will re-propose the management plan and regulations for the Governor's review, similar to the forty-five day review period required under section 304(b) of the National Marine Sanctuary Act at the time a national marine sanctuary is being designated (16 U.S.C. 1434(b)).

Authority: 16 U.S.C. section 1431 et seq.

(Federal Domestic Assistance Catalog Number 11.429 Marine Sanctuary Program)
Dated: June 4, 2001.
Ted I. Lillestolen,
Deputy Assistant Administrator for Ocean Services and Coastal Zone Management.

[FR Doc. 01-14428 Filed 6-7-01; 8:45 am]

BILLING CODE 3510-08-M